DEPARTMENT OF THE INTERIOR

Bureau of Ocean Energy Management

[MMAA104000]

Gulf of Mexico, Outer Continental Shelf (OCS), Eastern Planning Area (EPA) Oil and Gas Lease Sales 225 and 226

AGENCY: Bureau of Ocean Energy Management (BOEM), Interior.

ACTION: Notice of Availability (NOA) of a Record of Decision (ROD) for EPA Lease Sale 225 in the Gulf of Mexico OCS Oil and Gas Lease Sales: 2014-2016; Eastern Planning Area Lease Sales 225 and 226; Final Environmental Impact Statement (EPA 225/226 EIS).

SUMMARY: BOEM has prepared a ROD for oil and gas EPA Lease Sale 225 scheduled for March 19, 2014. The proposed lease sale is in the Gulf of Mexico's EPA off the States of Louisiana, Mississippi, Alabama, and Florida. EPA Lease Sale 225 is the first EPA lease sale scheduled in the OCS Oil & Gas Leasing Program for 2012-2017 (Five Year Program). In making its decision, BOEM considered an alternative to the proposed action, the potential impacts as presented in the EPA 225/226 EIS, and all comments received throughout the NEPA process. The EPA 225/226 EIS evaluated the environmental and socioeconomic impacts for EPA Lease Sale 225.

SUPPLEMENTARY INFORMATION: In the EPA 225/226 EIS, BOEM evaluated two alternatives that are summarized below:

Alternative A—The Proposed Action: This is BOEM's preferred alternative. This alternative would offer for lease all unleased blocks within the proposed EPA lease sale area for oil and gas operations.

The EPA proposed lease sale area covers approximately 657,905 acres (approximately 175 whole and partial blocks) and includes those blocks previously included in the EPA Lease Sale 224 Area and a triangular-shaped area south of the EPA Lease Sale 224 area. The EPA proposed lease sale area is currently bordered to the north by the southern boundary of the Sale 181 area, to the west and south by the CPA boundary, and to east by the Military Mission Line (86º41′ W. longitude). The nearest point of land is about 125 mi (201 km) northwest in Louisiana. As of November 2013, approximately 465,200 acres of the proposed EPA lease sale area are currently unleased. The estimated amount of natural resources projected to be developed as a result of a proposed EPA lease sale is 0-0.071 billion barrels of oil and 0-0.162 trillion cubic feet of gas.

Alternative B—No Action: This alternative is the cancellation of proposed EPA Lease Sale 225 and is identified as the environmentally preferred alternative.

After careful consideration, BOEM has selected the proposed action, identified as BOEM's preferred alternative (Alternative A) in the EPA 225/226 EIS. BOEM's selection of the preferred alternative meets the purpose and need for the action, as identified in the EPA 225/226 EIS, and reflects an orderly resource development with protection of the human, marine, and coastal environments, while also ensuring that the public receives an equitable return for these resources and that free-market competition is maintained.

Record of Decision Availability: To obtain a single printed or CD-ROM copy of the ROD for proposed EPA Lease Sale 225, you may contact BOEM, Gulf of Mexico OCS Region, Public Information Office (GM 335A), 1201 Elmwood Park Boulevard, New Orleans, Louisiana 70123-2394 (1-800-200-GULF). An electronic copy of the ROD is available on BOEM's Internet Web site at http://boem.gov/Environmental-Stewardship/Environmental-Assessment/NEPA/nepaprocess.aspx.

FOR FURTHER INFORMATION CONTACT: For more information on the ROD, you may contact Mr. Gary D. Goeke, Bureau of Ocean Energy Management, Gulf of Mexico OCS Region, 1201 Elmwood Park Boulevard (GM 623E), New Orleans, Louisiana 70123-2394. You may also contact Mr. Goeke by telephone at (504) 736-3233.

Authority: This NOA is published pursuant to the regulations (40 CFR part 1503) implementing the provisions of the National Environmental Policy Act (NEPA) of 1969, as amended (42 U.S.C. 4321 et seq.).

Dated: February 11, 2014.
Tommy P. Beaudreau,
Director, Bureau of Ocean Energy Management.

[FR Doc. 2014-04184 Filed 2-25-14; 8:45 am]

BILLING CODE 4310-MR-P